NUCLEAR REGULATORY COMMISSION

[Docket Nos. 052-00027 and 052-00028; NRC-2008-0441]

Virgil C. Summer Nuclear Station, Units 2 and 3

AGENCY: Nuclear Regulatory Commission.

ACTION: License amendment application; opportunity to comment, request a hearing, and petition for leave to intervene; correction.

SUMMARY: The U.S. Nuclear Regulatory Commission (NRC) is correcting a notice that was published in the Federal Register on July 9, 2015, that gave notice to the public that it is considering issuance of an amendment to Combined Licenses (NPF-93 and NPF-94), issued to South Carolina Electric and Gas (SCE&G) and South Carolina Public Service Authority, for construction and operation of the Virgil C. Summer Nuclear Station, Units 2 and 3 located in Fairfield County, South Carolina. This action is being taken to correct the date by which a request for a hearing or a petition for leave to intervene must be filed.

DATES: This correction is effective on July 20, 2015.

ADDRESSES: Please refer to Docket ID NRC-2008-0441 when contacting the NRC about the availability of information regarding this action. You may obtain publicly-available information related to this action using any of the following methods:

• Federal Rulemaking Web site: Go to http://www.regulations.gov and search for Docket ID NRC-2008-0441. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov.

• NRC's PDR: You may examine and purchase copies of public documents at the NRC's PDR, Room O1-F21, One White Flint North, 11555 Rockville Pike, Rockville, Maryland 20852.

FOR FURTHER INFORMATION CONTACT: Denise McGovern, Office of New Reactors, U.S. Nuclear Regulatory Commission, Washington, DC 20555-0001; telephone: 301-415-0681; email: Denise.Mcgovern@nrc.gov.

SUPPLEMENTARY INFORMATION: In the Federal Register of July 9, 2015 (80 FR 39450), in FR Doc. 2015-16797, on page 39450, third column, the DATES Section should be revised to read as follows: “Submit comments by August 10, 2015. Request for a hearing or petition for leave to intervene must be filed by September 8, 2015.”

Dated in Rockville, Maryland, this 14th day of July, 2015.
For the Nuclear Regulatory Commission.
Cindy Bladey,
Branch Chief, Rules, Announcements, and Directives Branch, Division of Administration Services, Office of Administration.

[FR Doc. 2015-17677 Filed 7-17-15; 8:45 am]

BILLING CODE 7590-01-P